DEPARTMENT OF THE INTERIOR

National Park Service

Notice of Availability of the Revised National Park Service Director's Order #21, Donations and Fundraising

AGENCY: National Park Service, Interior.

ACTION: Notice of availability.

SUMMARY: The National Park Service (NPS) has revised existing policies and procedures that guide its acceptance of donations and its relationships to those who desire to raise private sector support to benefit parks and programs. The policies and procedures apply to all units of the national park system, and supersede and replace the policies and procedures originally issued in 1998 that were subsequently extended pending the completion of the revision.

DATES: The document may be accessed on the Internet at http://www.nps.gov/policy/DOrders/DO21.html beginning May 22, 2006.

ADDRESSES: The revised Director's Order #21 and it accompanying reference guide is available on the Internet at http://www.nps.gov/policy/DOrders/DO21.html.

FOR FURTHER INFORMATION CONTACT: John Piltzecker at (202) 354-2150 or partnerships@nps.gov.

SUPPLEMENTARY INFORMATION: The NPS policies and procedures governing the role of the NPS in accepting donations and authorizing non-profit park support groups to raise funds on behalf of or for the benefit of the National Park System have previously been published in the form of Director's Order #21. The guidelines are superseded by the new Director's Order #21 (and a reference guide that has been issued concurrently). The topics included in the Director's Order include: Acceptance of donations, recognition provided to donors, authorization of fundraising (including for construction projects), cause-related corporate campaigns, and marketing exclusivity granted to Proud Partners of the National Park Foundation.

Dated: April 26, 2006.
Steve Martin,
Deputy Director, National Park Service.

[FR Doc. E6-7723 Filed 5-19-06; 8:45 am]

BILLING CODE 4310-70-P